DEPARTMENT OF HEALTH AND HUMAN SERVICES

Administration for Children and Families

Proposed Information Collection Activity; Comment Request

Title: Subsidized and Transitional Employment Demonstration (STED) and Enhanced Transitional Jobs Demonstration (ETJD).

OMB No.: New Collection.

Description: The Administration for Children and Families (ACF) within the U.S. Department of Health and Human Services (HHS) has launched a national evaluation called the Subsidized and Transitional Employment Demonstration (STED). At the same time, the Employment and Training Administration (ETA) within the Department of Labor (DOL) is conducting an evaluation of the Enhanced Transitional Jobs Demonstration (ETJD). These evaluations will inform the Federal government about the effectiveness of subsidized and transitional employment programs in helping vulnerable populations secure unsubsidized jobs in the labor market and achieve self-sufficiency. The projects will evaluate up to twelve subsidized and transitional employment programs nationwide.

ACF and ETA are collaborating on the two evaluations. In 2011, ETA awarded grants to seven transitional jobs programs as part of the ETJD, which is testing the effect of combining transitional jobs with enhanced services to assist ex-offenders and noncustodial parents improve labor market outcomes, reduce criminal recidivism, comply with child support orders and improve family engagement.

The STED and ETJD projects have complementary goals and are focusing on related program models and target populations. Thus, ACF and ETA have agreed to collaborate on the design of data collection instruments to promote consistency across the projects. In addition, two of the seven DOL-funded ETJD programs will be evaluated as part of the STED project.

The proposed information collection described here will be used for both the STED and ETJD projects. It is being submitted by ACF on behalf of both collaborating agencies.

There will be a total of twelve sites in the two projects combined. ACF and ETA estimate that 1,000 individuals will be randomly assigned at each site, for a total of 12,000 study participants across the two projects. In each site, 500 of these individuals will be assigned to the treatment group and 500 will be assigned to the control group.

Data for the study will be collected from the following three major sources:

1. Baseline Forms. Each subject will be asked to complete three forms upon entry into the study: (1) An informed consent form, which will require signature; (2) a contact sheet, which will obtain contact information for people who may help locate the subject for follow-up surveys; and (3) a baseline information form, which will collect demographic data and information on the subject's work and education history.

2. Follow-Up Surveys. Follow-up telephone surveys will be conducted with all participants. There will be three follow-up surveys in each of the seven STED sites (including the two sites that are also part of ETJD), approximately 6, 12, and 24 months after study entry.

There will be up to three follow-up surveys, at approximately 6, 12 and 30 months, in the five ETJD sites that are not part of STED.

The 6-month survey is intended to gather information from treatment and control group members while treatment group members are still participating in—or have very recently completed—a subsidized job. It will focus on self efficacy, well-being, worksite experiences, and other domains that are most likely to be directly affected by employment. The 12-month survey will collect data on study participants' receipt of services and attainment of education credentials, labor market status, material hardship, household income, criminal justice, self-sufficiency and family engagement, including, child support payments and parent-child contact. Participants will again be contacted 24 or 30 months after random assignment to follow-up and measure progress on similar domains as were measured at the 12-month point. In addition to the surveys, each respondent will be contacted once by mail and asked to provide updated contact information.

3. Implementation Research and Site Visits. Data on the context for the programs and their implementation will be collected during two rounds of site visits to each of the twelve sites, including interviews, focus groups, and observations. These data will be supplemented by short questionnaires for program staff, clients, worksite supervisors, and participating employers, as well as a time study for program staff.

The purpose of this Federal Register notice is to request approval of the baseline forms, the 6- and 12-month surveys, the implementation research protocols, and to request a waiver for subsequent 60-day notices for the other instruments listed above.

Under a related submission (OMB Number 0970-0384), a descriptive study of American Recovery and Reinvestment Act (ARRA)-funded subsidized employment programs has been released. The report can be found at http://www.acf.hhs.gov/programs/opre/welfare_employ/stedep/reports/tanf_emer_fund.pdf.

Respondents

The respondents to the baseline and follow-up surveys will be the study participants in the treatment and control groups. The respondents to the implementation research interviews and questionnaires will be program staff or employers who work with the subsidized employment programs, as well as clients participating in subsidized or transitional employment programs.

Annual Burden Estimates
Instrument | Annual number of respondents | Number of responses per respondent | Average burden hour per response | Total annual burden hours ¹
Participant Burden
Baseline forms | 1,667 | 1 | .17 | 283
Updated contact information | 4,000 | 1 | .03 | 120
6-month survey | 1,867 | 1 | .5 | 934
12-month survey | 3,200 | 1 | .75 | 2,400
Focus Group Discussion Guide | 40 | 2 | .75 | 60
Client Implementation Questionnaire | 80 | 2 | .33 | 53
Staff and Employer Burden
Staff implementation Questionnaire | 40 | 2 | .33 | 26
Employer implementation Questionnaire | 40 | 2 | .33 | 26
Worksite Supervisor Implementation Questionnaire | 40 | 2 | .33 | 26
Staff Time Study | 40 | 1 | 1 | 40
Program Staff Interview Guide | 40 | 2 | 1 | 80

Estimated Total Annual Burden Hours: 4,048.

In compliance with the requirements of Section 3506(c)(2)(A) of the Paperwork Reduction Act of 1995, the Administration for Children and Families and the Employment and Training Administration are e soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on (a) whether the proposed collection of information is necessary for the proper performance of the functions of the agencies, including whether the information shall have practical utility; (b) the accuracy of the agencies' estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer, Administration for Children and Families.

[FR Doc. 2012-812 Filed 1-17-12; 8:45 am]

BILLING CODE 4184-09-P